DEPARTMENT OF HOMELAND SECURITY

Federal Emergency Management Agency

[Docket ID FEMA 2014-0021]

Notice of Intent To Prepare a Programmatic Environmental Assessment and Notice of Public Scoping Period; Wildfire Mitigation Programmatic Environmental Assessment

AGENCY: Federal Emergency Management Agency, DHS.

ACTION: Notice.

SUMMARY: In compliance with the National Environmental Policy Act of 1969, the Federal Emergency Management Agency (FEMA) is proposing to prepare a programmatic environmental assessment (PEA) to evaluate the potential beneficial and adverse impacts from eligible wildfire mitigation activities funded under the Hazard Mitigation Grant Program (HMGP) and Pre-Disaster Mitigation (PDM) Program. This PEA will evaluate the environmental impacts of continuing to fund eligible activities under these programs (Proposed Action). FEMA anticipates that this programmatic approach will result in better decision-making, and will improve the timeliness and efficiency of environmental reviews. The identification of specific activities that would not require additional environmental review, along with project-specific reviews informed by or “tiered to” the PEA, will improve efficiency by helping to streamline the process of environmental review.

FEMA provides this notice to advise other Federal and State agencies, Territories, Indian Tribal Governments, local governments, private non-profit and other non-governmental organizations, and the public of our intent to prepare a PEA, to provide information on the nature of the analysis, and to invite public input on the scope of issues, proposed alternatives, potential effects and measures to lessen those effects that may be considered. Agencies, interested parties, and the public are invited to submit comments on the scope of the PEA at any time during the public comment period.

DATES: Comments must be received by August 18, 2014.

ADDRESSES: Comments must be identified by Docket ID FEMA-2014-0021 and may be submitted by the following method:

Federal eRulemaking Portal: http://www.regulations.gov. Follow the instructions for submitting comments. Please note that this notice of intent is not a rulemaking and that the Federal Rulemaking Portal is being utilized only as a mechanism for receiving comments.

Mail: Regulatory Affairs Division, Office of Chief Counsel, Federal Emergency Management Agency, 8NE, 500 C Street SW., Washington, DC 20472-3100.

FOR FURTHER INFORMATION CONTACT: Cecelia Rosenberg, Chief, Grants Policy Branch, Federal Insurance and Mitigation Administration, Federal Emergency Management Agency, 1800 South Bell Street Room 608, Arlington, VA 20598-3015, (202) 646-3321.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of www.regulations.gov.

You may submit your comments and material by the methods specified in the ADDRESSES section above. Please submit your comments and any supporting material by only one means to avoid the receipt and review of duplicate submissions.

II. Background

The Robert T. Stafford Disaster Relief and Emergency Assistance Act (Stafford Act), 42 U.S.C. 5121 et seq., authorizes FEMA to provide funding for the purpose of reducing or eliminating risks to human life and property from future hazard events, such as wildfire. Wildfires are defined as any uncontrolled fires occurring within natural landscapes such as forests and brush. FEMA funds wildfire mitigation activities through two programs: the Pre-Disaster Mitigation (PDM) program (authorized by Section 203 of the Stafford Act, 42 U.S.C. 5133) and the Hazard Mitigation Grant Program (HMGP) (authorized by Section 404 of the Stafford Act, 42 U.S.C. 5170c). Through these programs, FEMA provides grants to local governments, private non-profit organizations, Territories, Indian Tribal Governments, and State governments to implement comprehensive, long-term, and cost-effective hazard mitigation measures in conformance with State and local mitigation plans. The PDM program and HMGP are available to mitigate the risk to health and safety and risk of damage to clearly defined vulnerable buildings and structures from wildfires.

In 2008, FEMA issued the Wildfire Mitigation Grant Policy for the Hazard Mitigation Grant Program (HMGP) and Pre-Disaster Mitigation (PDM) Program (FEMA Policy MRR-2-08-1) which established funding eligibility criteria. The policy clarified the use of program funds for wildfire hazard reduction, the types of activities that would be eligible for grant assistance, and other conditions that would apply. FEMA substantively reviewed the policy three years later and found that revisions were not warranted. At that time, FEMA incorporated the policy into Part B of the Addendum to the Hazard Mitigation Assistance Unified Guidance (June 2013), found at https://www.fema.gov/media-library/assets/documents/33634?id=7851. Also at that time, FEMA decided it would be prudent to look at eligible wildfire mitigation activities programmatically because it had not previously done so. The nationwide PEA will assess the potential environmental impacts of wildfire mitigation activities for which subsequent actions will be implemented, based on either the PEA without requiring additional environmental review, or on subsequent project-specific reviews tiered to the PEA. In addition, environmental considerations may lead to identification of potential improvements to program operations.

Eligible Activities: Following are three types of wildfire mitigation projects:

• Defensible space—The creation of perimeters around residential and non-residential buildings and structures through the removal or reduction of flammable vegetation;

• Structural Protection through Ignition-Resistant Construction—The application of non-combustible building envelope assemblies, the use of ignition-resistant materials, and the use of proper retrofit techniques in new and existing structures; and

• Hazardous Fuels Reduction—Vegetation management to decrease the amount of hazardous fuels; vegetation thinning; and reduction of flammable materials to protect life and property beyond defensible space perimeters but proximate to at-risk structures.

Eligible wildfire mitigation projects must clearly demonstrate reduction or elimination of the threat of damages to buildings and structures from future wildfires.

Area of Study: Eligible projects must be located within a Wildland-Urban Interface (WUI), where wildland vegetation is adjacent to or intermingled with the built environment, or be located within two miles of a large contiguous block of wildland vegetation, and must provide protection to life and the built environment from future wildfires. The WUI is not a place, per se, but a set of conditions that can exist anywhere. The eligibility of wildfire mitigation projects located up to two miles from wildlands recognizes the danger from flaming embers to ignite structures even when they are not immediately adjacent to wildland vegetation. Eligible projects may be located anywhere in the United States. However, most past HMGP and PDM grant applications for wildfire hazard reduction projects have come from FEMA Regions V, VI, VIII, IX, and X, which correspond to areas of greatest wildfire frequency. These regions include the following States:

• Region V: Illinois, Indiana, Michigan, Minnesota, Ohio, and Wisconsin.

• Region VI: Oklahoma, Texas, New Mexico, Arkansas, and Louisiana.

• Region VIII: Colorado, Montana, North Dakota, South Dakota, Utah, and Wyoming.

• Region IX: Arizona, California, Hawaii, Nevada, and the Pacific Islands.

• Region X: Washington, Oregon, Idaho, and Alaska.

Duplication of Programs: FEMA mitigation grant programs target at-risk structures and are for activities in areas outside of the primary focus of other Federal agencies' fire threat reduction programs. FEMA hazard mitigation assistance for wildfires is available only for long-term and cost-effective actions that reduce the risk to specific property or structures from future wildfires. The FEMA goal of reducing the risk from wildfire hazards to human life and property, including loss of function of critical facilities, is intended to complement, and not duplicate, the programs of other Federal agencies such as the U.S. Forest Service or the Bureau of Land Management, to address wildfire threat to the built human environment within or proximate to the WUI. FEMA does not have authority to fund projects on land owned by another Federal entity, or projects with the purpose of addressing forest health conditions or ecological or agricultural issues related to land and forest management.

Proposed Scope of the PEA: This PEA will be used to evaluate the environmental impacts of continuing to fund eligible activities under the PDM program and HMGP as described in Part B of the Addendum to the Hazard Mitigation Assistance Unified Guidance (June 2013) (Proposed Action). FEMA will compare the Proposed Action with the No Action Alternative, which would consider the elimination of FEMA grant funding for wildfire hazard mitigation. Environmental effects of each alternative to be evaluated will include impacts on fish, wildlife, and vegetation; cultural and historic resources; visual resources and aesthetics; air quality and climate change; geology and soils; water quality; wetlands; floodplains; land use; and socioeconomic factors including environmental justice.

Public Involvement and Comments: Public comment is invited on the scope of the PEA and specifically on the scope of issues, proposed alternatives, potential effects and measures to lessen effects that may be considered (40 CFR 1501.7). Public comments are being accepted during the scoping period as described under the DATES section of this Notice and comments may be submitted as described under the ADDRESSES section of the this Notice.

FEMA specifically invites comments that relate to the environmental effects that may result from implementation of the Proposed Action. FEMA will consider these comments in developing the draft PEA. We particularly seek comments on the following:

1. The direct, indirect, and cumulative effects that implementation of any reasonable alternative could have on the natural and cultural environment;

2. Other reasonable alternatives for consideration and their associated effects;

3. Any other environmental issues that should be considered with regard to the proposed wildfire hazard mitigation measures.

After gathering public comments on the scope of the PEA, FEMA will develop a draft PEA that will be available for public review and comment according to 44 CFR part 10. FEMA will publish a notice of availability in the Federal Register when the draft PEA is available for public review, and will notify parties who provided comments during this scoping period.

Authority: 42 U.S.C. 4331 et seq.; 40 CFR part 1500; 44 CFR part 10.

Dated: June 25, 2014.
W. Craig Fugate,
Administrator, Federal Emergency Management Agency.

[FR Doc. 2014-15486 Filed 7-1-14; 8:45 am]

BILLING CODE 9110-13-P